GENERAL SERVICES ADMINISTRATION

Office of Transportation and Property Management; The Third Annual AMSA and GSA Household Goods and Freight Forum

AGENCY: Federal Supply Service, General Services Administration

ACTION: Notice.

SUMMARY: The General Services Administration (GSA) will hold its third annual Household Goods and Freight Forum on February 22—23, 2006 at the Hyatt Regency, Orange County, Garden Grove (Anaheim) California. This event is co-sponsored by the American Moving and Storage Association (AMSA). Creating Best Value Solutions is the theme for this 2006 transportation forum. GSA and its partners have planned educational and instructive sessions. Join Traffic Managers, Relocation Specialists, Freight Specialists, Financial Analysts, Contracting Officers, Transportation Policy Specialists, Administrative Support Personnel, and others managing or impacting transportation and relocation processes within their organizations. Receive the most recent training on freight and household goods transportation issues, relocations changes and updates, and technology enhancements. Also learn more about GSA's proposed rule that requires employees whose duties involve procuring transportation services (including rate tender procurements) to be properly certified and authorized in writing to obligate government funds. Attendees will have the opportunity to interface with industry leaders and government experts. Find solutions that create best value for your organization and hear how other agencies were able to achieve this goal within their organizations. The vendor exhibits will feature the latest technology, products, and services. Federal agencies may learn more about the Household Goods and Freight Forum and register at http://www.gsa.gov/hhgfrtforum. Industry registration is at www.promover.org.

FOR FURTHER INFORMATION CONTACT: Lynn Ju, Federal Supply Services, at (703) 605-2889, or by email to lynnette.ju@gsa.gov.

Dated: August 8, 2005.
Scott Tiedt,
Chief, Transportation Program Branch.

[FR Doc. 05-16318 Filed 8-16-05; 8:45 am]

BILLING CODE 6820-89-S